DEPARTNENT OF THE INTERIOR

National Park Service

Resource Protection Study, Record of Decision, Curecanti National Recreation Area, Colorado

AGENCY: National Park Service, Department of the Interior.

ACTION: Notice of Availability of a Record of Decision on the Final Environmental Impact Statement (FEIS) for the Resource Protection Study, Curecanti National Recreation Area.

SUMMARY: Pursuant to the National Environmental Policy Act of 1969, 42 U.S.C. 4332(2)(C), the National Park Service (NPS) announces the availability of the Record of Decision for the Resource Protection Study, Curecanti National Recreation Area, Colorado. On December 4, 2008, the Regional Director, Intermountain Region, approved the Record of Decision for the project. A report, jointly prepared by the National Park Service and the Bureau of Reclamation (Reclamation, the cooperating agency on the EIS), will be forwarded to Congress through the Department of the Interior. That Report to Congress will present the Resource Protection Study's findings, and will recommend the implementation of the Preferred Alternative (Proposed Action) contained in the FEIS issued on October 3, 2008. Congress will then decide what action to take, if any. As soon as practicable following such congressional action, the National Park Service will begin to implement those actions.

Alternatives Receiving Detailed Impact Assessment

Alternative 1: No Action (Continuation of Existing Conditions)

Under Alternative 1, the No Action Alternative, NPS would continue to manage the natural, cultural, and recreational resources of Curecanti National Recreation Area (NRA), and associated facilities, pursuant to Reclamation law, NPS law, the 1965 Memorandum of Agreement between NPS and Reclamation (1965 MOA), and other applicable laws and regulations. Reclamation would continue to manage the three dams and reservoirs, power plants, access roads, and other related facilities, to meet the purposes of the Colorado River Storage Project Act (CRSP); would continue to manage the East Portal area to meet the purposes of the Uncompahgre Project; and would continue to have unrestricted access to their lands and land interests, water and water interests, and facilities; pursuant to Reclamation law, the 1965 MOA, and other applicable laws and regulations. There would be no significant change in the NRA boundary. A permanent NPS presence would not be assured under this alternative.

Alternative 2: Proposed Action

Under Alternative 2, the Proposed Action, or Preferred Alternative, NPS would manage the same natural, cultural, and recreational resources and facilities as Alternative 1, pursuant to Reclamation law, NPS law, including new legislation establishing the NRA with 10,040 acres of additional agreed-upon neighboring agency lands, a revised MOA with Reclamation, and other applicable laws and regulations. Reclamation would manage their same facilities and areas of responsibility as Alternative 1, and would have unrestricted access to their lands and land interests, water and water interests, and facilities, pursuant to Reclamation law, the revised MOA, and other applicable laws and regulations. NPS would be authorized to work in partnership with private landowners within a Conservation Opportunity Area of 24,300 acres outside the NRA boundary, to implement a variety of tools, including acquiring interests in land from willing landowners, such as fee simple acquisition and conservation easements, which would promote the long-term conservation of resources. A permanent NPS presence would be assured under this alternative, which is also the environmentally preferred alternative.

Other Alternatives Considered

Four other alternatives pertaining to the proposed boundary, and various scenarios for different agencies to manage the NRA were considered. They were all eliminated from detailed impact assessment for reasons stated in the FEIS.

The Record of Decision includes a description of the background of the project, a statement of the decision made, synopses of other alternatives considered, the basis for the decision, a finding of no impairment of park resources and values, a description of the environmentally preferable alternative, and an overview of public involvement in the decision-making process.

FOR FURTHER INFORMATION CONTACT: Connie Rudd, Superintendent, Curecanti National Recreation Area, 102 Elk Creek, Gunnison, CO 81230; Tel: (970) 641-2337 ext. 220; E-mail: connie_rudd@nps.gov.

SUPPLEMENTARY INFORMATION: Copies of the Record of Decision may be obtained from the contact listed above or online at http://parkplanning.nps.gov/cure.

Dated: December 9, 2008.
Michael D. Snyder,
Regional Director, Intermountain Region, National Park Service.

Editorial Note: This document was received in the Office of the Federal Register on April 7, 2009.

[FR Doc. E9-8202 Filed 4-10-09; 8:45 am]

BILLING CODE 4310-EX-M